DEPARTMENT OF HEALTH AND HUMAN SERVICES

Administration for Children and Families

[OMB #0970-0461]

Submission for OMB Review; Immediate Disaster Case Management Intake Assessment

AGENCY: Office of Human Services, Emergency Preparedness and Response; Administration for Children and Families; HHS.

ACTION: Request for Public Comment.

SUMMARY: The Office of Human Services, Emergency Preparedness and Response (OHSEPR) is the emergency management office of the U.S. Department of Health and Human Services' (HHS) Administration for Children and Families (ACF). OHSEPR is requesting a 3-year extension of the Immediate Disaster Case Management Intake Assessment tool (OMB #0970-0461). The content of the form has not changed. There is one modification to the proposed use of resulting aggregate data, to include a use to advance research with a goal of developing a Quality Assurance/Performance Improvement process.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: OHSEPR leads HHS's and ACF's disaster human services missions conducted under the National Response Framework's Emergency Support Function 6 (ESF 6), Mass Care, Emergency Assistance, Temporary Housing, and Human Services. OHSEPR's ESF 6 disaster operations include implementation of disaster human services case management missions to connect disaster survivors to resources and services that support their individual and family recovery from disaster.

The primary purpose of the information collection pertains to the implementation of OHSEPR's delivery of case management services to individuals and households impacted by a disaster. OHSEPR's disaster case managers collect information during intake assessments that is utilized to identify a disaster survivor's unmet needs and connect them with resources. OHSEPR also utilizes this information to target resources and improve its disaster human services operations.

The information collection will be used to support OHSEPR's goal to quickly identify critical gaps, resources, needs, and services to support state, local, and non-profit capacity for disaster case management and to augment and build human service capacity where none exists. All information gathered will be used to (1) provide case management services to survivors and (2) inform the delivery of disaster case management services and programmatic strategies and improvements.

Respondents: Individuals impacted by a disaster.

Annual Burden Estimates
Instrument | Total number of respondents | Total number of responses per respondent | Average burden hours per response | Total burden hours | Annual burden hours
Immediate Disaster Case Management Intake Assessment | 33,489 | 1 | 1 | 33,489 | 11,163

Estimated Total Annual Burden Hours: 11,163.

Authority: Section 426 of the Robert T. Stafford Disaster Relief and Emergency Assistance Act, as amended, 42 U.S.C.

Mary B. Jones,
ACF/OPRE Certifying Officer.

[FR Doc. 2020-11312 Filed 5-26-20; 8:45 am]

BILLING CODE 4184-PC-P